ELECTION ASSISTANCE COMMISSION

Sunshine Act; Notice of Virtual Public Forum for EAC Standards Board; Notice of Virtual Public Forum for EAC Standards Board

DATE & TIME: Monday, February 8, 2010, 9 a.m. EST through Friday, February 19, 2010, 9 p.m. EST.

PLACE: EAC Standards Board Virtual Meeting Room at www.eac.gov. Once at the main page of EAC's Web site, viewers should click the link to the Standards Board Virtual Meeting Room. The virtual meeting room will open on Monday, February 8, 2010, at 9 a.m. EST and will close on Friday, February 19, 2010, at 9 p.m. EST. The site will be available 24 hours per day during that 12-day period.

PURPOSE: The EAC Standards Board will review and provide comment on Phase II of the Election Operations Assessment. Phase II of the Election Operations Assessment contains threat trees for the seven types of voting types covered by the Election Operations Assessment. These threat trees are intended to capture risks to the various types of voting systems and the possible mitigations. These threat trees feed into the Risk Assessment tool that will be used by the EAC and NIST in their work with the Voluntary Voting System Guidelines.

The EAC Standards Board Virtual Meeting Room was established to enable the Standards Board to conduct business in an efficient manner in a public forum, including being able to review and discuss draft documents, when it is not feasible for an in-person board meeting. The Standards Board will not take any votes or propose any resolutions during the 12-day forum of February 8-February 19, 2010. Members will post comments about Phase II of the Election Operations Assessment.

This activity is open to the public. The public may view the proceedings of this special forum by visiting the EAC Standards Board virtual meeting room at http://www.eac.gov at any time between Monday, February 8, 2010, 9 a.m. EST and Friday, February 19, 2010, 9 p.m. EST. The public also may view Phase II of the Election Operations Assessment, which will be posted on EAC's Web site beginning February 8, 2010. The public may file written statements to the EAC Standards Board at standardsboard@eac.gov. Data on EAC's Web site is accessible to visitors with disabilities and meets the requirements of section 508 of the Rehabilitation Act.

PERSON TO CONTACT FOR INFORMATION: Bryan Whitener, Telephone: (202) 566-3100.

Alice Miller,
Chief Operating Officer, U.S. Election Assistance Commission.

[FR Doc. 2010-1619 Filed 1-22-10; 4:15 pm]

BILLING CODE 6820-KF-P